DEPARTMENT OF HOMELAND SECURITY

Coast Guard

33 CFR Part 117

[Docket No. USCG-2013-0154]

Drawbridge Operation Regulations; Willamette River, Portland, OR

AGENCY: Coast Guard, DHS.

ACTION: Notice of deviation from drawbridge regulation.

SUMMARY: The Coast Guard has issued a temporary deviation from the operating schedule that governs the Burnside Bridge across the Willamette River, miles 12.4, at Portland, Oregon. This deviation is necessary to accommodate the annual Rose Festival Grand Floral Parade. This deviation allows the bridge to remain in the closed position to allow for the safe movement of event participants.

DATES: This deviation is effective from 7 a.m. until 2 p.m. on June 8, 2013.

ADDRESSES: The docket for this deviation, [USCG-2013-0154] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Randall Overton, Bridge Administrator, Coast Guard Thirteenth District; telephone 206-220-7282, email Randall.D.Overton@uscg.mil. If you have questions on viewing the docket, call Barbara Hairston, Program Manager, Docket Operations, telephone 202-366-9826.

SUPPLEMENTARY INFORMATION: Multnomah County has requested a temporary deviation from the normal operating schedule for the Burnside Bridge, mile 12.4, crossing the Willamette River at Portland, OR. The Burnside Bridge provides a vertical clearance of 64 feet in the closed position; all clearances are referenced to the vertical clearance above Columbia River Datum 0.0. The bridge currently operates in accordance with 33 CFR 117.897 which provides that from 8 a.m. to 5 p.m. Monday through Friday, one hour's notice shall be given for draw openings. At all other times, notice of at least two hours in advance is required. This deviation period starts at 7 a.m. on June 8, 2013 and ends at 2:00 p.m. on June 8, 2013. The deviation allows the Burnside Bridge to remain in the closed position and need not open for maritime traffic from 7 a.m. until 2 p.m. on June 8, 2013. The bridge shall operate in accordance to 33 CFR 117.897 at all other times. Waterway usage on this stretch of the Willamette River includes vessels ranging from commercial tug and barge to small pleasure craft. Mariners will be notified and kept informed of the bridge's operational status via the Coast Guard Notice to Mariners publication and Broadcast Notice to Mariners as appropriate. The bridge will be required to open, if needed, for vessels engaged in emergency response operations during this closure period.

In accordance with 33 CFR 117.35(e), the drawbridge must return to its regular operating schedule immediately at the end of the effective period of this temporary deviation. This deviation from the operating regulations is authorized under 33 CFR 117.35.

Dated: March 14, 2013.
Randall D. Overton,
Bridge Administrator, Thirteenth Coast Guard District.

[FR Doc. 2013-07086 Filed 3-26-13; 8:45 am]

BILLING CODE 9110-04-P